DEPARTMENT OF ENERGY

Office of Energy Efficiency and Renewable Energy

10 CFR Part 430

[Docket No. EE-RM/STD-00-550]

RIN 1904-AB08

Energy Conservation Program for Commercial and Industrial Equipment: Energy Conservation Standards for Distribution Transformers

AGENCY: Office of Energy Efficiency and Renewable Energy, Department of Energy.

ACTION: Advance notice of proposed rulemaking; notice of availability of a supplemental technical support document appendix, and correction.

SUMMARY: In conjunction with an earlier advance notice of proposed rulemaking (ANOPR) to establish energy conservation standards for distribution transformers, DOE announces the availability of a supplemental technical support document (TSD) appendix. DOE has also identified a mislabeling found in the ANOPR.

SUPPLEMENTARY INFORMATION: As indicated at the public meeting on September 28, 2004, the Department of Energy (DOE) announces the availability of a supplemental TSD appendix entitled, “Appendix 8E: Average Transformer Design Properties from Life-Cycle Cost Model.” This appendix provides information for the public to consider in connection with the July 29, 2004, ANOPR (69 FR 45375).

DOE has also identified a mislabeling found in the ANOPR on pages 45401 through 45404 and in Chapter 8 of the TSD on pages 8-38 through 8-43. On these pages, the text mistakenly labels some reported values as an “average manufacturer's selling price” when they should be referred to as the “consumer equipment cost before installation.” This mislabeling does not impact the inputs, results, or any other aspect of the ANOPR.

Stakeholders can locate and download the TSD Chapter 8 as well as the newly posted supplemental Appendix 8E on the Distribution Transformers ANOPR TSD page: http://www.eere.energy.gov/buildings/appliance_standards/commercial/dist_trans_tsd_061404.html.

FOR FURTHER INFORMATION CONTACT: Sam Johnson, Project Manager, Energy Conservation Standards for Distribution Transformers; Docket No. EE-RM/STD-00-550; U.S. Department of Energy, Office of Building Technologies, EE-2J, 1000 Independence Avenue, SW., Washington, DC 20585-0121; (202) 586-0854. E-mail: Sam.Johnson@ee.doe.gov.

Thomas B. DePriest, Esq.; U.S. Department of Energy, Office of General Counsel, GC-72, 1000 Independence Avenue, SW., Washington, DC 20585-0121; (202) 586-9507. E-mail: Thomas.DePriest@hq.doe.gov.

Issued in Washington, DC on November 8, 2004.
David K. Garman,
Assistant Secretary, Office of Energy Efficiency and Renewable Energy.

[FR Doc. 04-25609 Filed 11-18-04; 8:45 am]

BILLING CODE 6450-01-P